DEPARTMENT OF LABOR

Employment and Training Administration

Notice of a Virtual Public Meeting of the Advisory Committee on Apprenticeship (ACA)

AGENCY: Employment and Training Administration (ETA), Labor.

ACTION: Notice of a virtual public meeting.

SUMMARY: Pursuant to Section 10 of the Federal Advisory Committee Act (FACA), notice is hereby given to announce an open meeting of the Advisory Committee on Apprenticeship (ACA) on Wednesday, January 18, 2017. All meetings of the ACA are open to the public.

DATES: The meeting will begin at approximately 1:00 p.m. Eastern Standard Time on Wednesday, January 18, 2017, at https://dol.webex.com/dol, and adjourn at approximately 4:30 p.m. Any updates to the agenda and meeting logistics will be posted on the Office of Apprenticeship's homepage: http://www.dol.gov/apprenticeship.

FOR FURTHER INFORMATION CONTACT: The Designated Federal Officer, Mr. Daniel Villao, Deputy Administrator for National Office Policy, Office of Apprenticeship, Employment and Training Administration, U.S. Department of Labor, 200 Constitution Avenue NW., Room C-5321, Washington, DC 20210, Telephone: (202) 693-2796 (this is not a toll-free number).

SUPPLEMENTARY INFORMATION: The ACA is a discretionary committee established by the Secretary of Labor, in accordance with FACA (5 U.S.C. App. 2 § 10), as amended in 5 U.S.C. App. 2, and its implementing regulations (41 CFR 101-6 and 102-3). In order to promote openness, and increase public participation, webinar and audio conference technology will be used to convene the meeting. Webinar and audio instructions will be posted prominently on the Office of Apprenticeship homepage: http://www.dol.gov/apprenticeship.

Notice of Intent To Attend the Meeting

All meeting participants are being asked to submit a notice of intent to attend by Wednesday, January 11, 2017, via email to Mr. Daniel Villao at: oa.administrator@dol.gov, with the subject line “January 2017 ACA Meeting.”

1. If individuals have special needs and/or disabilities that will require special accommodations, please contact Kenya Huckaby on (202) 693-3795 or via email at huckaby.kenya@dol.gov no later than Wednesday, January 11, 2017.

2. Any member of the public who wishes to file written data or comments pertaining to the agenda may do so by sending the data or comments to Mr. Daniel Villao via email at oa.administrator@dol.gov, subject line “January 2017 ACA Meeting,” or to the Office of Apprenticeship, Employment and Training Administration, U.S. Department of Labor, Room C-5321, 200 Constitution Avenue NW., Washington, DC 20210. Such submissions will be included in the record for the meeting if received by Wednesday, January 11, 2017.

3. See below regarding members of the public wishing to speak at the ACA meeting.

Purpose of the Meeting and Topics To Be Discussed

The purpose of the January meeting is to focus on expanding opportunities for youth and discuss priority issues for apprenticeship in the upcoming year.

The Agenda Will Cover the Following Topics

• Expanding Registered Apprenticeship Opportunities for Youth

• Priority Issues for the Upcoming Year

• Recommendations on Continued Apprenticeship Expansion

• Other Matters of Interest to the Apprenticeship Community

• Public Comment

• Adjourn

The agenda and meeting logistics may be updated should priority items come before the ACA between the time of this publication and the scheduled date of the ACA meeting. All meeting updates will be posted to the Office of Apprenticeship's homepage: http://www.dol.gov/apprenticeship. Any member of the public who wishes to speak at the meeting should indicate the nature of the intended presentation and the amount of time needed by furnishing a written statement to the Designated Federal Officer, Mr. Daniel Villao, by Wednesday, January 11, 2017. The Chairperson will announce at the beginning of the meeting the extent to which time will permit the granting of such requests.

Portia Wu,
Assistant Secretary for the Employment and Training Administration.

[FR Doc. 2016-30205 Filed 12-15-16; 8:45 am]

BILLING CODE 4510-FR-P